DEPARTMENT OF LABOR

Employment & Training Administration

Proposed Information Collection Request Submitted for Public Comment and Recommendations

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before April 5, 2004.

ADDRESSES: Send comments to Office of Job Corps, 200 Constitution Avenue, NW., Washington, DC 20210, telephone number (202) 693-3000, fax number (202) 693-2767.

FOR FURTHER INFORMATION CONTACT: Tina Hess, Office of Job Corps, 200 Constitution Avenue, NW., Washington, DC 20210, telephone number (202) 693-3125, fax number (202) 693-3850, e-mail Hess-Williams.Tina@dol.gov.

SUPPLEMENTARY INFORMATION:

I. Background

The Job Corps program authorized by the Workforce Investment Act (WIA) of 1998, is designed to serve low-income young women and men, 16 through 24, who are in need of additional vocational, educational and social skills training, and other support services in order to gain meaningful employment, return to school, or enter the Armed Forces. Job Corps is operated by the Department of Labor through a nationwide network of 118 Job Corps centers. The program is primarily a residential program operating 24 hours per day, seven days per week, with non-resident enrollees limited by legislation to 20 percent of national enrollment. These centers presently accommodate more than 40,000 students. To ensure that the centers are filled with youth who are low-income as well as capable of and committed to doing the work necessary to achieve the benefits of Job Corps, certain eligibility requirements have been established by the legislation.

The purpose of this collection is to gather information from applicants to determine their eligibility for Job Corps. These forms are critical to the screening process. They are the initial forms completed by the Job Corps admissions counselors for each applicant.

II. Desired Focus of Comments

Currently, the Office of Job Corps is soliciting comments concerning the proposed extension collection of the Job Corps Enrollee Allotment Determination to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) can be obtained by contacting the office listed above in the addresses section of this notice.

III. Current Actions

Type of Review: Extension.

Agency: Employment & Training Administration.

Title: Job Corps Enrollee Allotment Determination.

OMB Number: 1205-0030.

Agency Number: ETA 658.

Recordkeeping: The applicant is not required to retain records; admissions counselors or contractor main offices are required to retain records of applicants who enroll in the program for three years from the date of application.

Affected Public: Individuals or households/Federal Government.

Total Respondents: 1,100.

Frequency: Annually.

Total Responses: 1,100.

Average Time per Response: 3 minutes.

Estimated Total Burden Hours: 55 hours.

Total Burden Cost: $715.

Comments submitted in response to this notice will be summarized and/or included in the request for Office of Management and Budget approval of the information collection request; they will also become a matter of public record.

Dated: January 27, 2004.
Emily Stover DeRocco,
Assistant Secretary, Employment and Training Administration.

[FR Doc. 04-2122 Filed 2-2-04; 8:45 am]

BILLING CODE 4510-30-M